DEPARTMENT OF JUSTICE

Federal Bureau of Prisons

Notice of Availability of the Record of Decision for Proposed Contract Award to House District of Columbia-Sentenced Felons and Criminal Aliens Within a Contractor-Owned/Contractor-Operated Correctional Facility

AGENCY: U.S. Department of Justice, Federal Bureau of Prisons.

ACTION: Notice of a Record of Decision.

SUMMARY: The U.S. Department of Justice, Federal Bureau of Prisons (BOP) announces the availability of the Record of Decision (ROD) concerning the proposed award of a contract to house approximately 1,380 federal, low-security, adult male District of Columbia (DC)-sentenced felons and criminal aliens within a Contractor-Owned/Contractor-Operated correctional facility.

Background Information

Pursuant to Section 102(2)(c) of the National Environmental Policy Act (NEPA) of 1969 and the Council of Environmental Quality Regulations (40 CFR Parts 1500-1508), the BOP has prepared Draft and Final Environmental Impact Statements (EISs) for the proposed award of a contract to house approximately 1,380 federal, low-security, adult male DC-sentenced felons and criminal aliens within a Contractor-Owned/Contractor-Operated correctional facility.

Project Information

The BOP faces unprecedented growth in its inmate population resulting from federal law enforcement programs. Federal Correctional Institutions housing low-security inmates are especially impacted because DC-sentenced felons and criminal aliens are typically housed at the low-security level. Due to the current shortage of beds within the federal prison system, particularly at the low-security level, the BOP is managing the federal inmate population by assigning minimum and medium-security level institutions as low-security institutions. This, in turn, impacts other security levels by reducing the availability of beds to accommodate minimum- and medium-security inmates. The projected growth in the number of sentenced felons and aliens resulting from increased law enforcement efforts will further exacerbate these population pressures. The DC III procurement serves to address these growth issues on a national basis.

The BOP requires flexibility in managing the shortage of beds at the low-security level as well as the anticipated future increases at this security level. Such management flexibility, involving the use of Contractor-Owned/Contractor-Operated correctional facilities when appropriate, would help to meet population capacity needs in a timely fashion, conform to federal law, and maintain fiscal responsibility while successfully meeting the mission of the BOP. That mission is to protect society by confining offenders in the controlled environments of prison and community-based facilities that are safe, humane, cost-efficient and appropriately secure, and that provide work and other self-improvement opportunities to assist offenders in becoming law-abiding citizens.

The proposed action is to award a contract to house approximately 1,380 federal, low-security, adult male, DC-sentenced felons and criminal aliens within a Contractor-Owned/Contractor-Operated correctional facility. Under the proposed action, the contractor selected would be responsible for ensuring that the correctional facility is operated in a manner consistent with the mission of the BOP and in accordance with state and federal laws and regulations. In addition, the facility selected would be within the proximity of, and have access to, emergency services including medical care, fire protection and law enforcement.

It is anticipated that the BOP will assign a population of approximately 1,380 low-security, adult male inmates, predominantly DC-sentenced felons and criminal aliens, to the selected facility. However, the BOP may designate any inmate within its custody utilizing the same designation criteria as are used at other BOP facilities. All inmate services and programs would be developed and implemented to comply with the BOP's contract requirements and all applicable federal, state and local laws and regulations.

The BOP issued a DEIS in January 2010 with publication of the Notice of Availability (NOA) in the Federal Register on January 22, 2010. The NOA provided a start date for the 45-day public comment period beginning on January 22, 2010, and ending on March 8, 2010. During the public comment period public hearings concerning the proposed action and the DEIS were held on February 10, 2010 in Winton, North Carolina and February 24, 2010 in Princess Anne, Maryland.

The FEIS addressed comments received on the DEIS and publication of the NOA in the Federal Register concerning the FEIS occurred on May 7, 2010. The 30-day review period for receipt of public comments concerning the FEIS ended on June 7, 2010, during which time comment letters and similar forms of communication were received by the BOP. Each of the comment letters are similar to comments received on the DEIS and were considered in the decision presented in the ROD.

BOP provided written notices of the availability of the DEIS and FEIS in the Federal Register, two newspapers with local and regional circulations, and through two local public libraries. The BOP also distributed approximately 175 copies (each) of the DEIS and FEIS to federal agencies, state and local governments, elected officials, interested organizations, and individuals.

The BOP evaluated alternatives as part of the EIS including the No Action Alternative; implementation of the proposed action at the Winton, North Carolina site (involving use of the Rivers Correctional Institution) to house the federal inmate population; and implementation of the proposed action at the Princess Anne, Maryland site (involving development of a new Contractor-Owned/Contractor-Operated correctional facility) to house the federal inmate population. Each of the alternative sites in Winton, North Carolina and Princess Anne, Maryland is examined in detail in the Draft and Final EISs with contract award to the Winton site in North Carolina identified in the ROD as the Preferred Alternative.

Availability of Record of Decision

The ROD and other information regarding this undertaking are available upon request. To request a copy of the ROD, please contact: Richard A. Cohn, Chief, or Issac J. Gaston, Site Selection Specialist, Capacity Planning and Site Selection Branch, Federal Bureau of Prisons, 320 First Street, NW., Washington, DC 20534/Tel: 202-514-6470/Fax: 202-616-6024/E-mail: racohn@bop.gov or igaston@bop.gov.

FOR FURTHER INFORMATION CONTACT:

Richard A. Cohn, or Issac J. Gaston, Federal Bureau of Prisons.

Dated: June 11, 2010.
Issac Gaston,
Site Specialist, Capacity Planning and Site Selection Branch.

[FR Doc. 2010-14743 Filed 6-18-10; 8:45 am]

BILLING CODE P